DEPARTMENT OF ENERGY

Western Area Power Administration

Record of Decision: Montana Alberta Tie Limited (DOE/EIS-0399)

AGENCY: Western Area Power Administration, DOE.

ACTION: Record of decision.

SUMMARY: The Western Area Power Administration (Western), an agency of the U.S. Department of Energy (DOE), has decided to finance a portion of the Montana Alberta Tie Ltd. (MATL) 230-kilovolt (kV) transmission line (MATL Project) in exchange for ownership of 50 megawatts (MW) of southbound capacity on the line and ownership of approximately 18 miles of transmission line. This decision is contingent on the MATL Project meeting all necessary conditions under Western's Transmission Infrastructure Program (TIP). MATL proposed to construct, operate, maintain, and connect a new 214-mile, single-circuit 230-kV electric transmission line across the U.S.-Canada border near Cut Bank, Montana, and DOE prepared the Environmental Impact Statement for the Montana Alberta Tie Ltd. (MATL) 230-kV Transmission Line (DOE/EIS-0399), herein referred to as the MATL Environmental Impact Statement (EIS), as co-lead with the State of Montana, to analyze the environmental impacts that would be associated with construction and operation of the line. The environmental mitigation measures and electric reliability conditions required by DOE's permit for the line are identified in the Record of Decision (ROD); Montana Alberta Tie Ltd. issued by DOE on November 17, 2008, (73 FR 67860), herein referred to as the first ROD.

Western's decision to finance a portion of the MATL Project has no effect on the environmental impacts identified in the MATL EIS, and does not in any way modify the first ROD.

Western has prepared this second ROD in accordance with the regulations of the Council on Environmental Quality (40 CFR Parts 1500-1508) for implementing the National Environmental Policy Act (NEPA), and DOE's NEPA Implementing Procedures (10 CFR part 1021).

FOR FURTHER INFORMATION CONTACT: For further information about Western's decision, contact Robert J. Harris, Regional Manager, Upper Great Plains Customer Service Region, Western Area Power Administration, P.O. Box 35800, Billings MT 59107-5800, by telephone at (406) 247-7405 or (800) 358-3415, or by facsimile at (406) 247-7408. The MATL EIS and first ROD are available on the DOE NEPA Web site at http://www.gc.energy.gov/NEPA/. In addition, the first ROD may be requested by contacting Ellen Russell, Senior Project Manager, Office of Electricity Delivery and Energy Reliability, OE-20, U.S. Department of Energy, 1000 Independence Avenue, SW., Washington, DC 20585, by telephone at (202) 586-9624, by facsimile at (202) 586-8008, or at Ellen.Russell@hq.doe.gov. For information on the DOE NEPA process, contact Carol Borgstrom, Director, Office of NEPA Policy and Compliance, GC-20, U.S. Department of Energy, 1000 Independence Avenue, SW., Washington, DC 20585, by telephone at (202) 586-4600 or (800) 472-2756, or by facsimile at (202) 586-7031.

SUPPLEMENTARY INFORMATION:

NEPA Review

When DOE distributed the Final MATL EIS in October 2008, Western was not involved in the MATL Project as the MATL Project did not include an interconnection with Western's transmission system and the American Recovery and Reinvestment Act of 2009 (Pub. L. 111-5; the Recovery Act) was not then law. The environmental impacts that would be associated with the line were analyzed in the MATL EIS, and the MATL Project would result in low environmental impacts after mitigation measures required by DOE's permit are implemented. The environmental mitigation measures and electric reliability conditions committed to are noted in the first ROD.

Because the expected environmental impacts of the MATL Project were fully addressed in the MATL EIS, and given that Western's participation and Federal action does not change the MATL Project or its impacts, Western has determined that further NEPA documentation is not required. For detailed information on the MATL EIS, please see the FOR FURTHER INFORMATION section above.

Purpose and Need for Agency Action

Under section 402 of the Recovery Act, Western is given authority to borrow funds from the U.S. Treasury to construct, finance, facilitate, plan, operate, maintain, and/or study construction of new or upgraded electric power transmission lines and related facilities. These transmission lines and related facilities must have at least one terminus in Western's marketing area and deliver or facilitate the delivery of power from renewable resources constructed or reasonably expected to be constructed after the date of enactment of the Recovery Act.

On March 4, 2009, Western published a Notice of Proposed Program and Request for Public Comments in the Federal Register (74 FR 9391) describing its proposed Transmission Infrastructure Program (TIP) and soliciting public input on that program. After considering the comments received on its March 4 Federal Register notice, Western published its final TIP Notice of Program on May 14, 2009 (74 FR 22732). The TIP will guide how Western evaluates proposals for funding under the Recovery Act.

Western also published a Notice of Availability of Request for Interest on March 4, 2009, (74 FR 9391) that initiated a public process to help identify the first round of transmission projects to be developed under the Recovery Act. The MATL Project was one of the projects proposed for funding in response to this notice.

Western's proposed action is to partially finance under its TIP the MATL Project as described in the first ROD. In return for its portion of Project funding, Western would own 50 MW of southbound capacity on the MATL line and gain ownership of approximately 18 miles of transmission line extending north from the Great Falls substation.

Decision

Western evaluated its participation in the MATL Project based on the principles, policies, and practices of Western's TIP. This second ROD provides notice that Western has considered the potential environmental impacts of the MATL Project and required mitigation as presented in the first ROD. It also provides notice that Western has decided to partially finance the MATL Project, in exchange for owning 50 MW of southbound capacity on the line and approximately 18 miles of transmission line. This decision is contingent on the MATL Project satisfying the other requirements of the TIP. The decision in this second ROD will be implemented through contracts with MATL if all necessary conditions are met.

In reaching this decision, Western reviewed the MATL EIS and first ROD and considered that the potential impacts from the selected alternative, with implementation of the stipulated mitigation measures, are expected to be low. Western's decision to finance a portion of the MATL Project has no effect on the environmental impacts identified in the MATL EIS, and does not in any way modify the first ROD.

Western has prepared this second ROD in accordance with the regulations of the Council on Environmental Quality (40 CFR Parts 1500-1508) for implementing NEPA, and DOE's NEPA Implementing Procedures (10 CFR Part 1021). Western's authority to issue a ROD is pursuant to authority delegated on October 4, 1999.¹

¹ Western's authority to issue a record of decision is pursuant to authority delegated on October 4, 1999, from the Assistant Secretary for Environment, Safety and Health to Western's Administrator.

Dated: September 18, 2009.
Timothy J. Meeks,
Administrator.

[FR Doc. E9-23186 Filed 9-24-09; 8:45 am]

BILLING CODE 6450-01-P